DEPARTMENT OF THE INTERIOR

Fish and Wildlife Service

[FWS-HQ-MB-2021-N159; FF09M20200 FGMB123109CITY0 (212); OMB Control Number 1018-NEW]

Agency Information Collection Activities; Urban Bird Treaty Program Requirements

AGENCY: Fish and Wildlife Service, Interior.

ACTION: Notice of information collection; request for comment.

SUMMARY: In accordance with the Paperwork Reduction Act of 1995, we, the United States Fish and Wildlife Service (Service), are proposing a new information collection.

DATES: Interested persons are invited to submit comments on or before August 10, 2021.

ADDRESSES: Send your comments on the information collection request (ICR) by mail to the Service Information Collection Clearance Officer, U.S. Fish and Wildlife Service, MS: PRB (JAO/3W), 5275 Leesburg Pike, Falls Church, VA 22041-3803 (mail); or by email to Info_Coll@fws.gov. Please reference OMB Control Number “1018-UBT” in the subject line of your comments.

FOR FURTHER INFORMATION CONTACT: To request additional information about this ICR, contact Madonna L. Baucum, Service Information Collection Clearance Officer, by email at Info_Coll@fws.gov, or by telephone at (703) 358-2503. Individuals who are hearing or speech impaired may call the Federal Relay Service at 1-800-877-8339 for TTY assistance.

SUPPLEMENTARY INFORMATION: In accordance with the Paperwork Reduction Act (PRA, 44 U.S.C. 3501 et seq.) and its implementing regulations at 5 CFR 1320, all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Urban Bird Treaty Program (UBT Program) is administered through the Service's Migratory Bird Program, under the authority of the Fish and Wildlife Coordination Act (16 U.S.C. 661-667e). The UBT Program aims to support partnerships of public and private organizations and individuals working to conserve migratory birds and their habitats in urban areas for the benefit of these species and the people that live in urban areas. The UBT partners' habitat conservation activities help to ensure that more natural areas, including forests, grasslands, wetlands, and meadows, are available in urban areas, so that underserved communities can have improved access to green space and opportunities to engage in habitat restoration and community science as well as bird-related recreation and educational programs. These habitat restoration activities, especially urban forest conservation, also contribute to climate resiliency by reducing the amount of carbon dioxide in the atmosphere. Lights-out programs in UBT cities help reduce energy costs and greenhouse gas emissions by reducing the use of electricity when people and businesses turn off their lights between dusk and dawn during the fall and spring periods of bird migration in order to reduce bird collisions with building glass.

The Service designates Urban Bird Treaty cities or municipalities through a process in which applicants submit a nomination package, including a letter of intention and an implementation plan, for approval by the Service's Migratory Bird Program. Within 3 months, the Service reviews the package, makes any necessary recommendations for changes, and then decides to either approve or reject the package. If rejected, the city can reapply the following year. In most cases, when the Service designates a new city partner, the Service and the new city partner hold a signing ceremony, during which a representative from both the Service and the city sign a nonbinding document that states the importance of conserving birds and their habitats to the health and well-being of people that live in and visit the city. To maintain this city partner designation, the city must submit information on the activities it has carried out to meet the goals of the UBT program, including those related to bird habitat conservation, bird hazard reduction, and bird-related community education and engagement. By helping make cities healthier places for birds and people, the UBT Program contributes to the Administration's priorities of justice and racial equity, climate resiliency, and the President's Executive Order 14008 to protect 30 percent of the Nation's land and 30 percent of its ocean areas by 2030.

The UBT program benefits city partners in many ways, including:

• Helps city partners achieve their goals for making cities healthier places for birds and people.

• Provides opportunities to share and learn from other city partners' tools, tactics, successes, and challenges, to advance city partners' urban bird conservation efforts.

• Strengthens the cohesion and effectiveness of the partnerships by coming together and working under the banner of the UBT program.

• Gives city partners improved access to funding through the National Fish and Wildlife Foundation's Five Star and Urban Waters Restoration grant program, as UBT cities receive priority in this program.

• Helps partners garner additional funds through other urban conservation grant programs that have shared goals and objectives.

• Achieve green building credits, reduced energy costs, green space requirements, environmental equity, and other sustainability goals.

• Promotes the livability and sustainability of partner cities by spreading the word about the city's UBT Federal designation and all the benefits of a green and bird-friendly city.

We collect the following information from prospective and successful applicants in conjunction with the UBT Program:

• Nomination Letter—Prospective applicants must submit a letter of intention from the city's partnership that details its commitment to urban bird conservation and community engagement in bird-related education, recreation, conservation, science, and monitoring. Support and involvement by the city government is required.

• Implementation Plan—The required implementation plan should contain the following (see the UBT Program Guidebook— https://www.fws.gov/migratorybirds/pdf/grants/UrbanBirdTreatyV3.pdf—for full descriptions of requirements):

—Detailed description of the importance of the city to migrating, nesting, and overwintering birds; bird habitats; human population size of the city; and socioeconomic profile of the human communities present and those targeted for education and engagement programs.

—Map of the geographic area that is being nominated for designation.

—List of individuals and organizations, and their contact information, that are active in the partnership.

—The mission, goals, and objectives of the partnership applying for designation, organized by the three UBT goal categories.

—Description of accomplishments (e.g., activities, products, outcomes) that have been completed over the last 3 years, the audiences and communities reached/engaged through those activities, and the partner organizations that have achieved them, organized by UBT goal categories.

—Description of strategies, actions, tools/products that are being planned for the next 5 years under the UBT designation, the objectives to be accomplished, the audiences and communities targeted for engagement, and the partners who will complete the work, organized by UBT goal categories.

• Ad Hoc Reports—The Service will also request information updates on UBT city points of contact, activities and events, and other information on an ongoing basis for urban bird conservation in the city, as needed by the Service for storytelling, promotion, and internal programmatic communications, education, and outreach.

• Biennial Reporting—The Service requires city partners to provide biennial metrics as well as written and photographic descriptions of activities for each goal category. City partners are required to submit this information to maintain their city's designation by ensuring that they are actively working to achieve the goals of the UBT Program.

We will use the information collected for storytelling purposes to promote the urban bird conservation work of city partners, and to enable the Migratory Bird Program to develop UBT Program accomplishment reports and other communications tools to share with the public and the conservation community at large. The reporting requirement ensures that the UBT city designation is meaningful and that city partners are accountable for the efforts that they agreed to undertake to earn their designation. Additionally, we will use the information to promote the UBT program to other interested city partners and the benefits of urban bird conservation generally. For more information, please see the UBT Program Guidebook at the following link: https://www.fws.gov/migratorybirds/pdf/grants/UrbanBirdTreatyV3.pdf.

Title of Collection: Urban Bird Treaty Designation, Updates, and Reporting Requirements.

OMB Control Number: 1018-NEW.

Form Number: None.

Type of Review: New.

Respondents/Affected Public: Nonprofits; colleges, universities, and schools; museums, zoos, and aquaria; local community groups; private businesses; and municipal, State, and Tribal governments involved in urban bird conservation in UBT cities.

Respondent's Obligation: Required to obtain or retain a benefit.

Frequency of Collection: One-time submission of nomination letter; one-time submission of implementation plan; on occasion for information updates; and biennial reporting.

Total Estimated Annual Nonhour Burden Cost: None.

Requirement | Average number of annual respondents | Average number of responses each | Average number of annual responses | Average completion time per response (hours) | Estimated annual burden hours
Nomination Letter:
Private Sector | 6 | 3 | 3 | 4 | 12
Government | 3 | 3 | 3 | 4 | 12
Implementation Plan (Initial Submission):
Private Sector | 24 | 3 | 3 | 40 | 960
Government | 12 | 3 | 3 | 20 | 240
Ad Hoc Reports:
Private Sector | 25 | 4 | 4 | 3 | 75
Government | 5 | 4 | 4 | 3 | 15
Biennial Reporting:
Private Sector | 12 | 1 | 12 | 80 | 960
Government | 3 | 1 | 3 | 80 | 240
Totals: | 90 |  | 35 |  | 2,514

An agency may not conduct or sponsor and a person is not required to respond to a collection of information unless it displays a currently valid OMB control number.

The authority for this action is the Paperwork Reduction Act of 1995 (44 U.S.C. 3501 et seq.).

Dated: June 8, 2021.
Madonna Baucum,
Information Collection Clearance Officer, U.S. Fish and Wildlife Service.

[FR Doc. 2021-12289 Filed 6-10-21; 8:45 am]

BILLING CODE 4333-15-P